DEPARTMENT OF ENERGY

Federal Energy Regulatory Commission

[Docket No. IC25-7-000]

Commission Information Collection Activities (FERC Form Nos. 1,1-F, and 3-Q); Comment Request; Extentions

AGENCY: Federal Energy Regulatory Commission, Department of Energy.

ACTION: Notice of information collections and request for comments.

SUMMARY: In compliance with the requirements of the Paperwork Reduction Act of 1995 (PRA), the Federal Energy Regulatory Commission (Commission or FERC) is soliciting public comment on the currently approved information collections, FERC Form Nos. 1 (Annual Report of Major Electric Utilities, Licensees, and Others), 1-F (Annual Report for Nonmajor Public Utilities and Licensees), and 3-Q (Quarterly Financial Report of Electric Utilities, Licensees, and Natural Gas Companies).

DATES: Comments on the collections of information are due April 8, 2025.

ADDRESSES: You may submit comments (identified by Docket No. IC25-7-000 and the form) by either of the following methods:

• Electronic filing: Documents must be filed in acceptable native applications and print-to-PDF, but not in scanned or picture format.

• For those unable to file electronically, comments may be filed by USPS mail or by hand (including courier) delivery:

○ Mail via U.S. Postal Service only, addressed to: Federal Energy Regulatory Commission, Secretary of the Commission, 888 First Street NE, Washington, DC 20426.

○ Hand (including courier) delivery to: Federal Energy Regulatory Commission, 12225 Wilkins Avenue, Rockville, MD 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Kayla Williams may be reached by email at DataClearance@FERC.gov, and telephone at (202) 502-6468.

SUPPLEMENTARY INFORMATION:

Type of Request: Three-year extensions of FERC Form Nos. 1, 1-F, and 3-Q, with no changes to the current reporting requirements.

FERC Form No. 1, Annual Report of Major Electric Utilities, Licensees, and Others

OMB Control Nos. and Titles: 1902-0021 (FERC Form No. 1, Annual Report of Major Electric Utilities, Licensees, and Others).

Abstract: FERC Form No. 1 is a comprehensive financial and operating report submitted annually for electric rate regulation, market oversight analysis, and financial audits by major electric utilities, licensees, and others. A major electric utility, licensee, or other reporter is defined as having in each of the last three consecutive calendar years, sales or transmission services that exceed one of the following: (1) one million megawatt-hours of total sales; (2) 100 megawatt-hours of sales for resale; (3) 500 megawatt-hours of power exchanges delivered; or (4) 500 megawatt-hours of wheeling for others (deliveries plus losses).¹

¹ As detailed in 18 CFR part 101 (Uniform System of Accounts Prescribed for Public Utilities and Licensees Subject to the Provision of the Federal Power Act, General Instructions) and 18 CFR 141.1.

FERC Form No. 1 is designed to collect financial and operational information and is made available to the public. FERC Form No. 1 includes a basic set of financial statements:

• Comparative Balance Sheet,

• Statement of Income,

• Statement of Retained Earnings,

• Statement of Cash Flows,

• Statement of Accumulated Comprehensive Income and Hedging Activities, and

• Notes to Financial Statements.

Supporting schedules contain:

• Supplementary information and outlines of corporate structure and governance,

• Information on formula rates, and

• Description of important changes during the year.

Other schedules provide:

• Information on revenues and the related quantities of electric sales and electricity transmitted,

• Account balances for all electric operation and maintenance expenses,

• Selected plant cost data, and

• Other statistical information.

Type of Respondent: Major electric utilities.

Estimate of Annual Burden: ² The Commission estimates the annual burden and cost ³ for FERC Form No. 1 as follows:

² Burden is defined as the total time, effort, or financial resources expended by persons to generate, maintain, retain, disclose, or provide information to or for a Federal agency. For further explanation of what is included in the information collection burden, refer to 5 CFR 1320.3. The burden hours and costs are rounded for ease of presentation.

³ The cost is based on FERC's 2025 Commission-wide average salary cost (salary plus benefits) of $103.00/hour. The Commission staff believes the FERC FTE (full-time equivalent) average cost for wages plus benefits is representative of the corresponding cost for the industry respondents.

Requirements | Number of respondents | Average annual number of responses | Total number of responses | Average annual burden (hrs.) & cost per response ($) | Total average annual burden (hrs.) & total annual cost ($) | Cost per respondent ($)
| (1) | (2) | (1) * (2) = (3) | (4) | (3) * (4) = (5) | (5) ÷ (1)
Form 1 | 216 | 1 | 216 | 1,168; $120,304 | 252,288; $25,985,664 | $120,304
Total |  |  |  |  | 252,288; $25,985,664 | 120,304

FERC Form No. 1-F, Annual Report for Nonmajor Public Utilities and Licensees

OMB Control Nos. and Titles: 1902-0029 (FERC Form No. 1-F, Annual Report for Nonmajor Public Utilities and Licensees).

Abstract: FERC Form No. 1-F is a financial and operating report submitted annually for electric rate regulation, market oversight analysis, and financial audits by Nonmajor electric utilities and licensees. Nonmajor is defined as utilities and licensees that are not classified as Major, and having total sales in each of the last three consecutive years of 10,000 megawatt-hours or more.⁴

⁴ As detailed in 18 CFR part 101 (Uniform System of Accounts Prescribed for Public Utilities and Licensees Subject to the Provision of the Federal Power Act, General Instructions) and 18 CFR 141.2.

FERC Form No. 1-F is designed to collect financial and operational information and is made available to the public. FERC Form No. 1-F includes a basic set of financial statements:

• Comparative Balance Sheet,

• Statement of Retained Earnings,

• Statement of Cash Flows,

• Statement of Comprehensive Income and Hedging Activities, and

• Notes to Financial Statements.

Supporting schedules contain:

• Supplementary information and include revenues and the related quantities of electric sales and electricity transmitted,

• Account balances for all electric operation and maintenance expenses,

• Selected plant cost data, and

• Other statistical information.

Type of Respondent: Nonmajor electric utilities.

Estimate of Annual Burden: The estimated annual burden and cost follow. (The estimated hourly cost used for FERC Form No. 1-F is $103 (for wages plus benefits) and is described above, under FERC Form No. 1.) The burden hours and costs are rounded for ease of presentation.

Requirements | Number of respondents | Average annual number of responses | Total number of responses | Average annual burden (hrs.) & cost per response ($) | Total average annual burden (hrs.) & total annual cost ($) | Cost per respondent ($)
| (1) | (2) | (1) * (2) = (3) | (4) | (3) * (4) = (5) | (5) ÷ (1)
Form 1F | 2 | 1 | 2 | 122; $12,566 | 244; $25,132 | $12,566
Total |  |  |  |  | 244; $25,132 | 12,566

FERC Form No. 3-Q, Quarterly Financial Report of Electric Utilities, Licensees, and Natural Gas Companies

OMB Control Nos. and Titles: 1902-0205 (FERC Form No. 3-Q, Quarterly Financial Report of Electric Utilities, Licensees, and Natural Gas Companies).

Abstract: FERC Form No. 3-Q is a quarterly financial and operating report for rate regulation, market oversight analysis, and financial audits which supplements (a) FERC Form Nos. 1 and 1-F, for the electric industry, or (b) FERC Form No. 2 (Annual Report for Major Natural Gas Companies; OMB Control No. 1902-0028) and FERC Form No. 2-A (Annual Report for Nonmajor Natural Gas Companies; OMB Control No. 1902-0030), for the natural gas industry. FERC Form No. 3-Q is submitted for all Major and Nonmajor electric utilities, licensees, and natural gas companies.⁵

⁵ 18 CFR 260.1(b) states that for natural gas companies as defined by the Natural Gas Act, Major pertains to a company whose combined gas transported or stored for a fee exceed 50 million Dth in each of the three previous calendar years. 18 CFR 260.2(b) states that for natural gas companies as defined by the Natural Gas Act, Non-Major pertains to a company not meeting the filing threshold for FERC Form No. 2, but having total gas sales or volume transactions exceeding 200,000 Dth in each of the three previous calendar years.

FERC Form No. 3-Q includes a basic set of financial statements:

• Comparative Balance Sheet,

• Statement of Income and Statement of Retained Earnings,

• Statement of Cash Flows,

• Statement of Comprehensive Income and Hedging Activities, and

• Supporting schedules containing supplementary information.

Electric respondents report:

• Revenues and the related quantities of electric sales and electricity transmitted,

• Account balances for all electric operation and maintenance expenses,

• Selected plant cost data, and

• Other statistical information.

Natural gas respondents report:

• Monthly and quarterly quantities of gas transported and associated revenues,

• Storage, terminalling, and processing services,

• Natural gas customer accounts and details of service, and

• Operational expenses, depreciation, depletion, and amortization of gas plant.

Type of Respondent: Major and nonmajor electric utilities, licensees, and natural gas companies.

Estimate of Annual Burden: The estimated annual burden and cost (as rounded) follow. (The estimated hourly cost used for FERC Form No. 3-Q is $103 (for wages plus benefits) and is described above, under FERC Form No. 1.) The burden hours and costs are rounded for ease of presentation. The quarterly filings are generally a subset of the annual filings.

Burden Table—Form 3-Q—Electric and Gas
Requirements | Number of respondents | Average annual number of responses | Total number of responses | Average annual burden (hrs.) & cost per response ($) | Total average annual burden (hrs.) & total annual cost ($) | Cost per respondent ($)
| (1) | (2) | (1) * (2) = (3) | (4) | (3) * (4) = (5) | (5) ÷ (1)
Form 3-Q (Electric) | 218 | 3 | 654 | 168; $17,304 | 109,872; $11,316,816 | $51,912
Form 3-Q (Gas) | 148 | 3 | 444 | 168; $17,304 | 74,592; $7,682,976 | 51,912
Total |  |  |  |  | 184,464; $18,999,792 | 51,912

For FERC Form No. 3-Q (electric and natural gas), the total average annual burden hours is 184,464, and the total annual cost is $18,999,792.

Comments: Comments are invited on: (1) whether the collections of information are necessary for the proper performance of the functions of the Commission, including whether the information will have practical utility; (2) the accuracy of the agency's estimates of the burden and cost of the collections of information, including the validity of the methodology and assumptions used; (3) ways to enhance the quality, utility, and clarity of the information collections; and (4) ways to minimize the burden of the collections of information on those who are to respond, including the use of automated collection techniques or other forms of information technology.

Dated: February 3, 2025.
Debbie-Anne A. Reese,
Secretary.

[FR Doc. 2025-02356 Filed 2-6-25; 8:45 am]

BILLING CODE 6717-01-P